DEPARTMENT OF AGRICULTURE

Forest Service

Notice of Intent To Prepare a Supplement to the Final Environmental Impact Statement for Gypsy Moth Management in the United States: a Cooperative Approach

AGENCIES: Forest Service and Animal and Plant Health Inspection Service, USDA.

ACTION: Notice.

SUMMARY: The Forest Service and the Animal and Plant Health Inspection Service propose to add the insecticide, tebufenozide (trade name Mimic), to their list of treatments for the control of gypsy moth. The analysis for this proposal builds on the analysis and documentation for the January 16, 1996, Record of Decision for the Gypsy Moth Management in the United States: a Cooperative Approach Final Environmental Impact Statement, which was published in the Federal Register on February 15, 1996 (61 FR 5976). The agencies will prepare a Supplemental Environmental Impact Statement (SEIS) to the November 1995 Final Environmental Impact Statement (EIS), Gypsy Moth Management in the United States: a Cooperative Approach, which was published in the Federal Register on December 1, 1995 (60 FR 61698).

The 1996 Record of Decision adopted alternative 6 in the final EIS, which consisted of three management strategies: suppression, eradication, and slow-the-spread treatments. Pesticide treatment options in the 1996 Record of Decision included: Bacillus thuringiensus var. kurstaki, diflubenzuron, and nucleopolyhedrosis virus (Gypchek). Other management approaches included mass trapping, mating disruption, and sterile insect release.

In addition to the proposal to add the insecticide, tebufenozide (trade name, Mimic), the agencies propose developing a process for adding other insecticides that are currently unidentified and unregistered insecticides, not available at the current time, that may become available in the future to their list of treatments for control of gypsy moth, if the proposed insecticides are within the range of effects and acceptable risks for the existing list of treatments.

DATES: Comments concerning this notice must be received in writing June 14, 2004.

ADDRESSES: Comments concerning this notice should be addressed to Joseph L. Cook, Gypsy Moth Supplemental EIS Project Leader, Forest Service, Northeastern Area, State and Private Forestry, 180 Canfield Street, Morgantown, WV 26505. Comments also may be submitted via facsimile to (304) 285-1505.

The public may inspect comments received at State and Private Forestry, 180 Canfield Street, Morgantown, West Virginia. Visitors are encouraged to call ahead to (304) 285-1523 to facilitate entry to the building.

FOR FURTHER INFORMATION CONTACT: Joseph L. Cook, Gypsy Moth Supplemental EIS Project Leader, at (304) 285-1523.

Individuals who use telecommunication devices for the deaf (TDD) may call the Federal Relay Service (FRS) at 1-800-877-8339 twenty-four hours a day, every day of the year, including holidays.

SUPPLEMENTARY INFORMATION:

Estimated Dates for Filing

The draft Supplemental Environmental Impact Statement is expected to be filed with the Environmental Protection Agency and available for public review in March 2005. A 45-day comment period will follow publication of a Notice of Availability of the draft Supplemental Environmental Impact Statement (SEIS) in the Federal Register. Comments received on the draft SEIS will be analyzed and considered in preparation of the final SEIS, expected in February 2006. A Record of Decision (ROD) will also be issued and published at that time along with the publication of a Notice of Availability of the final SEIS in the Federal Register.

Reviewers Obligation To Comment

The Forest Service and the Animal and Plant Health Inspection Service believe that, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service and the Animal and Plant Health Inspection Service at a time when the agencies can meaningfully consider them and respond to them in the final supplemental environmental impact statement.

To assist the Forest Service and Animal and Plant Health Inspection Service in identifying and considering issues and concerns on the proposed action, comments should be as specific as possible. Reviewers may wish to refer to the Council on Environmental Quality Regulations for implementing the procedural provisions of the National Environmental Policy Act at 40 CFR 1503.3 in addressing these points.

This notice of intent initiates the scoping process which guides the development of the supplement to the environmental impact statement. The Forest Service and the Animal and Plant Health Inspection Service are seeking information and comments from Federal, State, Tribal, and local agencies, as well as individuals and organizations who may be interested in, or affected by the proposed action.

Purpose and Need for Action

The January 16, 1996, Record of Decision for the Gypsy Moth Management in the United States: a Cooperative Approach Environmental Impact Statement published February 15, 1996 (61 FR 5976), identified a need to protect forests and trees of the United States from the adverse effects of the gypsy moth, a non-native insect that alters ecosystems and disrupts people's lives when it feeds heavily on the foliage of trees, shrubs, and other plants. Managers need a full and up-to-date suite of appropriate gypsy moth treatment tools.

A new insecticide, tebufenozide (trade name Mimic), which is registered with the Environmental Protection Agency (EPA) for effective suppression of the gypsy moth, became available after publishing of the January 16, 1996, Record of Decision. Managers need a full and up-to-date suite of appropriate gypsy moth treatment tools to meet the purpose and need of the 1995 Environmental Impact Statement, Gypsy Moth Management in the United States: a Cooperative Approach. Accordingly, there is a need to include tebufenozide in the agencies' list of treatments. There is also a need to provide for the timely and appropriate addition of future gypsy moth treatments as they are registered for use with the Environmental Protection Agency.

Nature of Decision To Be Made

The responsible officials will decide whether or not to add the insecticide, tebufenozide (trade name Mimic), to their list of treatments for control of gypsy moth and whether or not to provide for the addition of other insecticides to their list of treatments for control of gypsy moth, if the other insecticides are within the range of effects and acceptable risks for the existing list of treatments.

Responsible Officials

The responsible official for the Forest Service is the Deputy Chief for State and Private Forestry. The responsible official for the Animal and Plant Health Inspection Service is the Deputy Administrator for Plant Protection and Quarantine.

Use of Comments

All comments received in response to this notice, including the names and addresses when provided, will become a matter of public record and will be available for public inspection and copying. Comments will be summarized and included in the final Supplemental Environmental Impact Statement.

Dated: April 19, 2004.
Robin L. Thompson,
Associate Deputy Chief, State and Private Forestry.

[FR Doc. 04-9688 Filed 4-28-04; 8:45 am]

BILLING CODE 3410-11-P